FEDERAL RETIREMENT THRIFT INVESTMENT BOARD

Agenda; Board Meeting; August 27, 2018, 10:00 a.m. (Telephonic)

Open Session

1. Approval of the Minutes for the July 24, 2018 Board Meeting

2. Monthly Reports

(a) Participant Activity

(b) Investment Performance

(c) Legislative Report

3. Quarterly Reports

(d) Metrics

4. 2018-2019 Board Meeting Calendar Review

Closed Session

Information covered under 5 U.S.C. 552b(c)(9)(B) and (c)(10).

Contact Person for More Information: Kimberly Weaver, Director, Office of External Affairs, (202) 942-1640.

Dated: August 17, 2018.
Dharmesh Vashee,
Deputy General Counsel, Federal Retirement Thrift Investment Board.

[FR Doc. 2018-18138 Filed 8-22-18; 8:45 am]

BILLING CODE 6760-01-P